DEPARTMENT OF AGRICULTURE

Food Safety and Inspection Service

[FDMS Docket No. FSIS-2006-0004]

International Standard-Setting Activities

AGENCY: Food Safety and Inspection Service, USDA.

ACTION: Notice.

SUMMARY: This notice informs the public of the sanitary and phytosanitary standard-setting activities of the Codex Alimentarius Commission (Codex), in accordance with section 491 of the Trade Agreements Act of 1979, as amended, and the Uruguay Round Agreements Act, Public Law 103-465, 108 Stat. 4809. This notice also provides a list of other standard-setting activities of Codex, including commodity standards, guidelines, codes of practice, and revised texts. This notice, which covers the time periods from June 1, 2005, to May 31, 2006, and June 1, 2006, to May 31, 2007, seeks comments on standards currently under consideration and recommendations for new standards.

ADDRESSES: Comments may be submitted by any of the following methods:

• Federal eRulemaking Portal: This Web site provides the ability to type short comments directly into the comment field on this Web page or attach a file for lengthier comments. FSIS prefers to receive comments through the Federal eRulemaking Portal. Go to http://www.regulations.gov and, in the “Search for Open Regulations” box, select “Food Safety and Inspection Service” from the agency drop-down menu, and then click on “Submit.” In the Docket ID column, select FDMS Docket Number FSIS-2006-0004 to submit or view public comments and to view supporting and related materials available electronically. After the close of the comment period, the docket can be viewed using the “Advanced Search” function in Regulations.gov.

• Mail, including floppy disks or CD-ROM's, and hand-or courier-delivered items: Send to Docket Clerk, U.S. Department of Agriculture, Food Safety and Inspection Service, 300 12th Street, SW., Room 102 Cotton Annex, Washington, DC 20250.

All submissions must include the Agency name and docket number FSIS-2006-0004. Please state that your comments refer to Codex and, if your comments relate to specific Codex committees, please identify those committees in your comments and submit a copy of your comments to the delegate from that particular committee. All comments submitted in response to this proposal will be posted to the regulations.gov Web site. The comments also will be available for public inspection in the FSIS Docket Room at the address listed above between 8:30 a.m. and 4:30 p.m., Monday through Friday. The comments also will be posted on the Agency's Web site at http://www.fsis.usda.gov/regulations_&_policies/2006_Notices_Index/index.asp.

FOR FURTHER INFORMATION CONTACT: F. Edward Scarbrough, Ph.D., United States Manager for Codex, U.S. Department of Agriculture, Office of the Under Secretary for Food Safety, Room 4861, South Agriculture Building, 1400 Independence Avenue, SW., Washington, DC 20250-3700; (202) 205-7760. For information pertaining to particular committees, the delegate of that committee may be contacted. (A complete list of U.S. delegates and alternate delegates can be found in Attachment 2 to this notice.) Documents pertaining to Codex are accessible via the World Wide Web at the following address: http://www.codexalimentarius.net/current.asp. The U.S. Codex Office also maintains a Web site at http://www.fsis.usda.gov/Regulations_&_Policies/Codex_Alimentarius/index.asp.

SUPPLEMENTARY INFORMATION:

Background

The World Trade Organization (WTO) was established on January 1, 1995, as the common international institutional framework for the conduct of trade relations among its members in matters related to the Uruguay Round Trade Agreements. The WTO is the successor organization to the General Agreement on Tariffs and Trade (GATT). U.S. membership in the WTO was approved and the Uruguay Round Agreements Act was signed into law by the President on December 8, 1994. The Uruguay Round Agreements became effective, with respect to the United States, on January 1, 1995. Pursuant to section 491 of the Trade Agreements Act of 1979, as amended, the President is required to designate an agency to be responsible for informing the public of the sanitary and phytosanitary (SPS) standard-setting activities of each international standard-setting organization, Codex, World Organisation for Animal Health, and the International Plant Protection Convention. The President, pursuant to Proclamation No. 6780 of March 23, 1995 (60 FR 15845), designated the U.S. Department of Agriculture as the agency responsible for informing the public of SPS standard-setting activities of each international standard-setting organization. The Secretary of Agriculture has delegated to the Administrator, Food Safety and Inspection Service (FSIS), the responsibility to inform the public of the SPS standard-setting activities of Codex. The FSIS Administrator has, in turn, assigned the responsibility for informing the public of the SPS standard-setting activities of Codex to the U.S. Codex Office, FSIS.

Codex was created in 1962 by two U.N. organizations, the Food and Agriculture Organization (FAO) and the World Health Organization (WHO). Codex is the principal international organization for encouraging fair international trade in food and protecting the health and economic interests of consumers. Through adoption of food standards, codes of practice, and other guidelines developed by its committees and by promoting their adoption and implementation by governments, Codex seeks to protect the health of consumers, ensure fair trade practices in the food trade, and promote coordination of food standards work undertaken by international governmental and non-governmental organizations. In the United States, the United States Department of Agriculture (USDA); the Food and Drug Administration (FDA), Department of Health and Human Services (HHS); and the Environmental Protection Agency (EPA) manage and carry out U.S. Codex activities.

As the agency responsible for informing the public of the SPS standard-setting activities of Codex, FSIS publishes this notice in the Federal Register annually. Attachment 1 (Sanitary and Phytosanitary Activities of Codex) sets forth the following information:

1. The SPS standards under consideration or planned for consideration; and

2. For each SPS standard specified:

a. A description of the consideration or planned consideration of the standard;

b. Whether the United States is participating or plans to participate in the consideration of the standard;

c. The agenda for United States participation, if any; and

d. The agency responsible for representing the United States with respect to the standard.

To obtain copies of those standards listed in Attachment 1 that are under consideration by Codex, please contact the Codex delegate or the U.S. Codex office. This notice also solicits public comment on those standards that are currently under consideration or planned for consideration and recommendations for new standards. The delegate, in conjunction with the responsible agency, will take the comments received into account in participating in the consideration of the standards and in proposing matters to be considered by Codex.

The United States' delegate will facilitate public participation in the United States Government's activities relating to Codex Alimentarius. The United States' delegate will maintain a list of individuals, groups, and organizations that have expressed an interest in the activities of the Codex committees and will disseminate information regarding United States' delegation activities to interested parties. This information will include the current status of each agenda item; the United States Government's position or preliminary position on the agenda items; and the time and place of planning meetings and debriefing meetings following Codex committee sessions. In addition, the U.S. Codex Office makes much of the same information available through its Web page, http://www.fsis.usda.gov/Regulations_&_Policies/Codex_Alimentarius/index.asp. Please visit the Web page or notify the appropriate U.S. delegate or the Office of U.S. Codex Alimentarius, Room 4861, South Agriculture Building, 1400 Independence Avenue, SW., Washington, DC 20250-3700, if you would like to access or receive information about specific committees.

The information provided in Attachment 1 describes the status of Codex standard-setting activities by the Codex Committees for the time periods from June 1, 2005 to May 31, 2006, and June 1, 2006 to May 31, 2007. Attachment 2 provides the list of U.S. Codex Officials (includes U.S. delegates and alternate delegates). A list of forthcoming Codex sessions may be found at: http://www.codexalimentarius.net/web/current.jsp?lang=en.

Additional Public Notification

Public awareness of all segments of rulemaking and policy development is important. Consequently, in an effort to ensure that the public and in particular minorities, women, and persons with disabilities, are aware of this notice, FSIS will announce it online through the FSIS Web page located at http://www.fsis.usda.gov/regulations_&_policies/2006_Notices_Index/index.asp.

The Regulations.gov Web site is the central online rulemaking portal of the United States government. It is being offered as a public service to increase participation in the Federal government's regulatory activities. FSIS participates in Regulations.gov and will accept comments on documents published on the site. The site allows visitors to search by keyword or Department or Agency for rulemakings that allow for public comment. Each entry provides a quick link to a comment form so that visitors can type in their comments and submit them to FSIS. The Web site is located at http://www.regulations.gov.

FSIS also will make copies of this Federal Register publication available through the FSIS Constituent Update, which is used to provide information regarding FSIS policies, procedures, regulations, Federal Register notices, FSIS public meetings, recalls, and other types of information that could affect or would be of interest to our constituents and stakeholders. The update is communicated via Listserv, a free e-mail subscription service consisting of industry, trade, and farm groups, consumer interest groups, allied health professionals, scientific professionals, and other individuals who have requested to be included. The update also is available on the FSIS Web page. Through Listserv and the Web page, FSIS is able to provide information to a much broader, more diverse audience.

In addition, FSIS offers an e-mail subscription service which provides automatic and customized access to selected food safety news and information. This service is available at http://www.fsis.usda.gov/news_and_events/email_subscription/. Options range from recalls to export information to regulations, directives, and notices. Customers can add or delete subscriptions themselves and have the option to password protect their account.

Done at Washington, DC on May 26, 2006.
F. Edward Scarbrough,
United States Manager for Codex.

Attachment 1: Sanitary and Phytosanitary Activities of Codex; Codex Alimentarius Commission and Executive Committee

The Codex Alimentarius Commission will hold its Twenty-Ninth Session July 3-8, 2006 in Geneva, Switzerland. At that time, it will consider procedural matters and the standards, codes of practice, and related matters brought to its attention by the general subject committees, commodity committees, ad hoc Task Forces and member delegations. It will also consider options to implement recommendations from the review of Codex committee structure and mandates of Codex committees and task forces, as well as budgetary and strategic planning issues. At this Session, the Commission will elect a Chair and three Vice Chairs.

Prior to the Commission meeting, the Executive Committee will have met at its Fifty-seventh Session on December 6-9, 2005 and its Fifty-Eighth Session on June 28-July 1, 2006. It is composed of the chairperson, vice-chairpersons, seven members elected from the Commission, one from each of the following geographic regions: Africa, Asia, Europe, Latin America and the Caribbean, Near East, North America, and South-West Pacific. Additionally, pending approval by the Directors General of FAO and WHO, regional coordinators from the six regional committees will serve as members of the Executive Committee. The Executive Committee will consider the Codex Strategic Plan 2008-1013; review the Codex committee structure and mandate of Codex committees and task forces; review matters arising from reports of Codex Committees, proposals for new work, and standards management issues; and review the Trust Fund for the Participation of Developing Countries and Countries in Transition in the Work of the Codex Alimentarius.

Responsible Agency: USDA/FSIS.

U.S. Participation: Yes.

Codex Committee on Residues of Veterinary Drugs in Foods

The Codex Committee on Residues of Veterinary Drugs in Foods determines priorities for the consideration of residues of veterinary drugs in foods and recommends Maximum Residue Limits (MRLs) for veterinary drugs. A veterinary drug is defined as any substance applied or administered to a food producing animal, such as meat or dairy animals, poultry, fish or bees, for therapeutic, prophylactic or diagnostic purposes or for modification of physiological functions or behavior.

A Codex Maximum Limit for Veterinary Drugs (MRLVD) is the maximum concentration of residue resulting from the use of a veterinary drug (expressed in mg/kg or ug/kg on a fresh weight basis) that is adopted by the Codex Alimentarius Commission to be permitted or recognized as acceptable in or on a food. An MRLVD is based on the Acceptable Daily Intake (ADI) and indicates the amount of residue in food that is considered to be without appreciable toxicological hazard. An MRLVD also takes into account other relevant public health risks as well as food technological aspects.

When establishing an MRLVD, consideration is also given to residues that occur in food of plant origin or the environment. Furthermore, the MRLVD may be reduced to be consistent with good practices in the use of veterinary drugs and to the extent that practical analytical methods are available.

Acceptable Daily Intake (ADI): An estimate by the Joint FAO/WHO Expert Committee on Food Additives (JECFA) of the amount of a veterinary drug, expressed on a body weight basis, that can be ingested daily over a lifetime without appreciable health risk (standard man = 60 kg).

The Committee met in Cancun, Mexico on May 8-12, 2006. The reference document is ALINORM 06/29/31. The Committee worked on:

• Draft MRLs for Trichlorfon (metrifonate), Flumequine (in black tiger shrimp), Pirlimycin, Cypermethrin and Alpha-cypermethrin, and Doramectin (in cow's milk) at step 7

• Proposed Draft MRLs for Ractopamine at step 4

• Proposed Draft Revised Guidelines for the Establishment of a Regulatory Program for Control of Veterinary Drug Residues in Foods

• Proposed Draft Revised Part I, II, III of Guidelines for the Establishment of a Regulatory Program for the Control of Veterinary Drug Residues in Foods

• Discussion Paper on Risk Management Methodologies, including Risk Assessment Policies in the CCRVDF

• Priority List of Veterinary Drugs Requiring Evaluation or Reevaluation

• List of Methods of Analysis for Veterinary Drug Residues and Identification of Routine Methods of Analysis

• Recommendations on Residues of Veterinary Drugs without ADI/MRL (Prioritization of work)

Responsible Agency: HHS/FDA; USDA/FSIS.

U.S. Participation: Yes.

Codex Committee on Food Additives and Contaminants

The Codex Committee on Food Additives and Contaminants (CCFAC): (a) Establishes or endorses permitted maximum or guideline levels for individual food additives, contaminants, and naturally occurring toxicants in food and animal feed; (b) prepares priority lists of food additives and contaminants for toxicological evaluation by the Joint FAO/WHO Expert Committee on Food Additives (JECFA); (c) recommends specifications of identity and purity for food additives for adoption by the Commission; (d) considers methods of analysis for food additive and contaminants; and (e) considers and elaborates standards and codes for related subjects such as labeling of food additives when sold as such and food irradiation. The following matters are under consideration by the Commission at its 29th Session in July 2006. The relevant document is ALINORM 6/29/12.

Food Additives

To be considered at Step 8:

• General Standard for Food Additives (GSFA): Draft Food Additive Provisions in Tables 1 and 2

• Draft Revised Preamble to the GSFA

To be considered at Step 5/8:

• General Standard for Food Additives: Proposed Draft Food Additive Provisions in Tables 1, 2 and 3

• Advisory Specifications for the Identity and Purity of Food Additives

• Proposed Draft Revisions to the Codex International Numbering System for Food Additives

Responsible Agency: HHS/FDA.

U.S. Participation: Yes.

Codex Committee on Pesticide Residues

The Codex Committee on Pesticide Residues recommends to the Codex Alimentarius Commission establishment of maximum limits for pesticide residues for specific food items or in groups of food. A Codex Maximum Residue Limit for Pesticide (MRLP) is the maximum concentration of a pesticide residue (expressed as mg/kg), recommended by the Codex Alimentarius Commission to be legally permitted in or on food commodities and animal feeds. Foods derived from commodities that comply with the respective MRLPs are intended to be toxicologically acceptable, that is, consideration of the various dietary residue intake estimates and determinations both at the national and international level in comparison with the ADI*, should indicate that foods complying with Codex MRLPs are safe for human consumption.

Codex MRLPs are primarily intended to apply in international trade and are derived from reviews conducted by the Joint Meeting on Pesticide Residues (JMPR).

(a) Review of residue data from supervised trials and supervised uses including those reflecting national good agricultural practices (GAP). Data from supervised trials conducted at the highest nationally recommended, authorized, or registered uses are included in the review. In order to accommodate variations in national pest control requirements, Codex MRLPs take into account the higher levels shown to arise in such supervised trials, which are considered to represent effective pest control practices.

(b) Toxicological assessments of the pesticide and its residue.

The following items will be considered by the Commission at its 29th Session in July 2006. The relevant document is ALINORM 06/29/24.

To be considered at Step 8:

• Draft and Draft Revised Maximum Residue Limits

• Draft Risk Analysis Principles Applied by the Codex Committee on Pesticide Residues

• Proposed Draft Guidelines on Estimation of Uncertainly of Results

To be considered at Step 5/8:

• Proposed Draft Maximum Residue Limits

To be considered at Step 5:

• Proposed Draft and Proposed Draft Revised Maximum Residue Limits

To be considered for Revocation:

• Codex CLX-Ds

To be considered for New Work:

• Revision of the Codex Classification of Foods and Animal Feeds

• Priority List of Pesticides for review by JMPR

The committee is continuing work on:

• Draft and Proposed Draft MRLs

• Revision of the List of Recommended Methods on Analysis for Pesticide Residues

• Revision of the Codex Priority List of Pesticides for review by JMPR

• Discussion paper on how Codex MRLs are used at the national level

• Discussion paper on the establishment of MRLs for Processed or Ready-to-Eat Foods

*Acceptable Daily Intake (ADI) of a chemical is the daily intake which, during an entire lifetime, appears to be without appreciable risk to the health of the consumer on the basis of all the known facts at the time of the evaluation of the chemical by the Joint FAO/WHO Meeting on Pesticide Residues. It is expressed in milligrams of the chemical per kilogram of body weight.

Codex Committee on Methods of Analysis and Sampling

The Codex Committee on Methods of Analysis and Sampling:

(a) Defines the criteria appropriate to Codex Methods of Analysis and Sampling;

(b) Serves as a coordinating body for Codex with other international groups working in methods of analysis and sampling and quality assurance systems for laboratories;

(c) Specifies, on the basis of final recommendations submitted to it by the other bodies referred to in (b) above, Reference Methods of Analysis and Sampling appropriate to Codex Standards which are generally applicable to a number of foods;

(d) Considers, amends, if necessary, and endorses, as appropriate, methods of analysis and sampling proposed by Codex (Commodity) Committees, except that methods of analysis and sampling for residues of pesticides or veterinary drugs in food, the assessment of microbiological quality and safety in food, and the assessment of specifications for food additives do not fall within the terms of reference of this Committee;

(e) Elaborates sampling plans and procedures, as may be required;

(f) Considers specific sampling and analysis problems submitted to it by the Commission or any of its Committees; and

(g) Defines procedures, protocols, guidelines or related texts for the assessment of food laboratory proficiency, as well as quality assurance systems for laboratories.

The 27th Session of the Committee met in Budapest, Hungary, on May 15-19, 2006. The relevant document is ALINORM 06/29/23.

For endorsement of the 29th Commission in 2006:

• Proposed amendments to the Procedural Manual: Recommendations on the Use of Analytical Results

The Committee considered the following items at its 27th Session:

To be considered at Step 7:

• Proposed Draft Guidelines for Evaluating Acceptable Methods of Analysis

To be considered at Step 4:

• Proposed Draft Guidelines for Settling of Disputes on Analytical (test) Results

The Committee continued to work on:

• Further Review of the Analytical Terminology for Codex Use in the Procedural Manual

• Endorsement of Methods of Analysis and Sampling Provisions in Codex Standards

• Criteria for Methods of Analysis for the Detection and Identification of Foods derived from Biotechnology

• Methods of Analysis for the determination of dioxins and PCBs

• Revision of the IUPAC/ISO/AOAC Protocol for Proficiency Testing

• Uncertainly of Sampling

Responsible Agency: HHS/FDA; USDA/GIPSA.

U.S. Participation: Yes.

Codex Committee on Food Import and Export Inspection and Certification Systems

The Codex Committee on Food Import and Export Inspection and Certification Systems is charged with developing principles and guidelines for food import and export inspection and certification systems to protect consumers and to facilitate trade. Additionally, the Committee develops principles and guidelines for the application of measures by competent authorities to provide assurance that foods comply with essential requirements, especially statutory health requirements. This encompasses work on: Equivalence of food inspection systems including equivalence agreements, and processes and procedures to ensure that sanitary measures are implemented; guidelines on food import control systems; and guidelines on food product certification and information exchange. The development of guidelines for the appropriate utilization of quality assurance systems to ensure that foodstuffs conform to requirements and to facilitate trade also are included in the Committee's terms of reference. The reference document is ALINORM 06/29/30. The following will be considered for adoption by the Commission at its 29th Session in July 2006.

To be considered at step 5/8:

• Proposed Draft Principles and Guidelines for Imported Food Inspection Based on Risk

• Proposed Draft Principles for Traceability/Product Tracing as a Tool within a Food Inspection and Certification Program

The committee is continuing work on:

• Proposed Draft Appendix to the Guidelines on the Judgment of Equivalence of Sanitary Measures Associated with Food Inspection and Certification

• Proposed Draft Principles and Guidelines for Generic Official Certificate Formats and the Production and Issuance of Certificates

• Discussion paper on the reply to the question raised by the 22nd Session of the Codex Committee on General Principles regarding the revision of the Codex Code of Ethics for International Trade of Foods

Responsible Agency: HHS/FDA; USDA/FSIS.

U.S. Participation: Yes.

Codex Committee on General Principles

The Codex Committee on General Principles deals with procedure and general matters as are referred to it by the Codex Alimentarius Commission. The 23rd Session met on April 10-14, 2006, in Paris, France. The relevant document is ALINORM 06/29/33. Matters to be considered for adoption by the 28th Commission in July 2005:

• Draft Terms of Reference for the Committee on Food Additives and the Committee on Contaminants in Foods;

• Draft Revised Criteria for Prioritisation Process of Compounds for Evaluation by JMPR proposed by the Committee on Pesticide Residues and the recommendations on The Use of Analytical Results: Sampling Plans, Relationship between the Analytical Results, the Measurement Uncertainty, Recovery Factors and Provisions in Codex Standards proposed by the Committee on Methods of Analysis and Sampling;

• Proposed Amendments to the Rules of Procedure: Duration of the Term of Office of the Members of the Executive Committee;

• Proposed Amendments to the Procedures for the Elaboration of Codex Standards and Related Texts and to the Guidelines on the Conduct of Meetings of Codex Committee and Ad hoc Intergovernmental Task Forces;

• Proposed Amendments to the General Principles of the Codex Alimentarius; and

• Recommendations concerning the adoption of Codex food safety standards as related to the use of the term “interim”

The Committee continued work on:

• Proposed Draft Working Principles for Risk Analysis for Food Safety (Guidance to National Governments)

• Consideration of the structure, content and presentation of the Procedural Manual

• Review of the guides to the consideration of Standards at Step 8

• Proposed changes in the Elaboration Procedures

• New definition of risk analysis terms related to food safety

• Management of the work in the Codex Committee on Food Hygiene

Responsible Agency: USDA/FSIS.

U.S. Participation: Yes.

Codex Committee on Food Labelling

The Codex Committee on Food Labelling is responsible for drafting provisions on labelling issues assigned by the Codex Alimentarius Commission. The reference document is ALINORM 06/29/22. The Committee held its 34th Session in Ottawa, Canada, on May 1-5, 2006. It considered the following items:

• Guidelines for the Production, Processing, Labelling and Marketing of Organically Produced Foods, Proposed Revised Sections: Annex 2—Table 3, Revision to Table 1 (Natural Sodium Nitrate)

• Draft Amendment to the General Standard for the Labelling of Prepackaged Foods—(Draft Recommendations for the Labelling of Foods Obtained through Certain Techniques of Genetic Modification/Genetic Engineering) Section 2. (Definitions)

• Proposed Draft Guidelines for the Labelling of Food and Food Ingredients obtained through certain Techniques of Genetic Modification/Genetic Engineering: Labelling Provisions

• Proposed Draft Amendment to the General Standard for the Labelling of Prepackaged Foods: Quantitative Declaration of Ingredients

• Definition of Trans Fatty Acids

• Discussion paper on Advertising.

Responsible Agency: HHS/FDA; USDA/FSIS.

U.S. Participation: Yes.

Codex Committee on Food Hygiene

The Codex Committee on Food Hygiene has four primary responsibilities. The first is to draft basic provisions on food hygiene applicable to all food. These provisions normally take the form of Codes of Hygienic Practice for a specific commodity (e.g. bottled water) or group of commodities (e.g., milk and milk products). The second is to suggest and prioritize areas where there is a need for microbiological risk assessment at the international level and to consider microbiological risk management matters in relation to food hygiene and in relation to the risk assessment activities of FAO and WHO. The third is to consider, amend if necessary, and endorse food hygiene provisions that are incorporated into specific Codex commodity standards by the Codex commodity committees. The fourth is to provide such other general guidance to the Commission on matters relating to food hygiene as may be necessary. The 38th Session of the Committee will meet in Houston, TX, December 4-8, 2006. The Committee will discuss the following:

To be considered at Step 7:

• Proposed Draft Guidelines on the Application of the General Principles of Food Hygiene to the Control of Listeria monocytogenes in Ready-to-Eat Foods

• Proposed Draft Code of Hygienic Practice for Eggs and Egg Products

• Proposed Draft Principles and Guidelines for the Conduct of Microbiological Risk Management

The committee will continue to work on:

• Proposed Draft Guidelines for Validation of Food Hygienic Control Measures

• Proposed Draft Code of Hygienic Practice for Powdered Formulae for Infants and Children

• Endorsement of Hygiene Provisions in Codex Standards and Codes of Practice

• Annexes to the step 7 documents

• Proposals/risk profiles:

—Guidelines for the Application of the General Principles for Food Hygiene to the Risk-Based Control of Enterohemorrhagic E. coli in Ground Beef and Fermented Sausages

—Guidelines for the Application of the General Principles of Food Hygiene to the Risk-Based Control of Salmonella spp. in Broiler Chickens

—Guidelines for Risk Management Options for Campylobacter in Broiler Chickens

—Vibrio spp. in Seafood

—Viruses in Food

Responsible Agency: HHS/FDA; USDA/FSIS.

U.S. Participation: Yes.

Codex Committee on Fresh Fruits and Vegetables

The Codex Committee on Fresh Fruits and Vegetables is responsible for elaborating world-wide standards and codes of practice for fresh fruits and vegetables. The Committee will meet in Mexico City, Mexico, on September 25-29, 2006. At the session they will discuss the following items:

• Draft Standard for Tomatoes: Provisions on Sizing

• Draft Standard for Table Grapes: Maturity Requirements and Minimum Bunch Weight

• Proposed Draft Standard for Apples

• Codex Standard for Sweet Cassava, Revision of Section 1 Definition of Produce, Section 3 Sizing to include other varieties of cassavas fit for human consumption

• Proposed Draft Guidelines for the Quality Control of Fresh Fruits and Vegetables

• Standard Layout for Codex Standards for Fresh Fruits and Vegetables

• Priority List for the Standardization of Fresh Fruits and Vegetables.

Responsible Agency: USDA/AMS.

U.S. Participation: Yes.

Codex Committee on Nutrition and Foods for Special Dietary Uses

The Codex Committee on Nutrition and Foods for Special Dietary Uses is responsible for studying nutritional problems referred by the Codex Alimentarius Commission. The Committee also drafts general provisions, as appropriate, on nutritional aspects of all foods and develops standards, guidelines, or related texts for foods for special dietary uses. The relevant document is ALINORM 06/29/26. The following items will be considered by the 29th Session of the Commission in July 2006:

To be adopted at Step 8:

• Draft Standard for Processed Cereal-Based Foods for Infants and Young Children

To be adopted at Step 5:

• Formulas for Special Medical Purposes Intended for Infants (Section B)

The Committee continues work on:

• Draft Revised Standard for Gluten-Free Foods

• Draft Revised Standard for Infant Formula (Section A) and Formulas for Special Medical Purposes Intended for Infants (Section B)

• Guidelines for Use of Nutrition Claims—Draft Table of Conditions for Nutrient Content Claims (Part B containing Provisions on Dietary Fibre)

• Proposed Draft Revision of the Advisory Lists of Nutrient Compounds for Use in Foods for Special Dietary Uses Intended for Use by Infants and Young Children

• Proposed Draft Recommendations on the Scientific Basis of Health Claims

• Discussion Paper on the Application of Risk Analysis to the Work of the CCNFSDU

• Discussion Paper on Proposals for Additional or Revised Nutrient Reference Values (NRVs)

Responsible Agency: HHS/FDA; USDA/FNS.

U.S. Participation: YES.

Codex Committee on Fish and Fishery Products

The Fish and Fishery Products Committee is responsible for elaborating standards for fresh, frozen and otherwise processed fish, crustaceans and mollusks. The Committee will meet on September 18-22, 2006, in Beijing, China. The Committee will discuss the following items:

To be considered at Step 7:

• Draft Standard for Sturgeon Caviar To be considered at Step 4:

• Proposed Draft Standard for Live and Non-Viable Bivalve Mollusks

• Proposed Draft Standard for Smoked Fish

• Proposed Draft Standard for Quick Frozen Scallop Adductor Muscle Meat

• Proposed Draft Code of Practice for fish and fishery products (other sections)

The Committee continues work on the following:

• Proposed Draft Code of Practice on the Processing of Scallop Meat

• Review of the Procedure for the Inclusion of Species

• Proposed Draft Amendment of the Standard for Canned Sardines and Sardine-Type Products (Clupea bentincki)

• Proposed amendment of the labeling section in the Standard for Canned Sardines and Sardine-Type Products

Responsible Agency: HHS/FDA; USDC/NOAA/NMFS.

U.S. Participation: Yes.

Codex Committee on Milk and Milk Products

The Codex Committee on Milk and Milk Products is responsible for establishing international codes and standards for milk and milk products. The Committee held its 7th Session from March 27-April 1, 2006 in Queenstown, New Zealand. The relevant document is ALINORM 06/29/11. Standards to be considered at Step 8:

• Draft Amendment to the Codex General Standard for Cheese

• Draft Standard for a Blend of Evaporated Skimmed Milk and Vegetable Fat

• Draft Standard for a Blend of Skimmed Milk and Vegetable Fat in Powdered Form

• Draft Standard for a Blend of Sweetened Condensed Skimmed Milk and Vegetable Fat

• Draft Revised Standard for Whey Cheese

• Draft Revised Standards for Cheddar (C-1) and Danbo (C-3)

Standards to be considered at Step ⅝:

• Proposed draft revised Standard for Edam (C-4)

• Proposed draft revised Standard for Gouda (C-5)

• Proposed draft revised Standard for Havarti (C-6)

• Proposed draft revised Standard for Samso (C-7)

• Proposed draft revised Standard for Emmental (C-9)

• Proposed draft revised Standard for Tilsiter (C-11)

• Proposed draft revised Standard for Saint-Paulin (C-13)

• Proposed draft revised Standard for Provolone (C-15)

• Proposed draft revised Standard for Cottage Cheese (C-16)

• Proposed draft revised Standard for Coulommiers (C-18)

• Proposed draft revised Standard for Cream Cheese (C-31)

• Proposed draft revised Standard for Camembert (C-33)

• Proposed draft revised Standard for Brie (C-34)

• Proposed draft Standard for Mozzarella

• Proposed draft Standard for Dairy Fat Spreads

At Step 5:

• Proposed Draft Model Export Certificate for Milk and Milk Products

Other committee work:

• Proposed Draft Template for Fermented Milk Drinks Provision

• Proposed Draft Revised Standard for Processed Cheese

• Amendment to the List of Additives of the Codex Standard for Creams and Prepared Creams

• Food Additive Listings for the Codex Standard for Fermented Milks (flavoured fermented milks)

• Methods of Analysis and Sampling for Milk and Milk Products Standards

• Discussion paper on sampling plans for milk products in presence of significant measurement error

Responsible Agency: USDA/AMS; HHS/FDA.

U.S. Participation: Yes.

Codex Committee on Fats and Oils

The Codex Committee on Fats and Oils is responsible for elaborating standards for fats and oils of animal, vegetable, and marine origin. The Committee will meet February 19-23, 2007, in London, U.K. The Committee will discuss the following items:

To be considered at Step 7:

• Proposed Draft Amendments to the Standard for Named Vegetable Oils: Rice Bran Oil

• Draft Standard for Fat Spreads and Blended Spreads: Food additives

• Draft List of Acceptable Previous Cargoes

To be considered at Step 4:

• Proposed Draft List of Acceptable Previous Cargoes

The Committee continues work on:

• Proposed Draft Amendments to the Standard for Named Vegetable Oils

• Unbleached palm oil: total carotenoids—Accelerated Procedure

• Criteria for the Revision of Named Vegetable Oils

• Consideration of the level of linolenic acid in the Standard for Olive Oils and Olive Pomace Oils

• Consideration of International Standards Organization proposal to amend the nomenclature of oils

Responsible Agency: HHS/FDA; USDA/ARS.

U.S. Participation: Yes.

Codex Committee on Processed Fruits and Vegetables

The Codex Committee on Processed Fruits and Vegetables is responsible for elaborating standards for Processed Fruits and Vegetables. After having been adjourned sine die, the Committee reconvened in Washington, DC, in March 1998 to begin work revising the standards. The Committee will hold its next session on October 16-21, 2006. At the session they will discuss the following items:

To be considered at Step 7:

• Draft Codex Standard for Pickled Fruits and Vegetables

• Draft Codex Standard for Processed Tomato Concentrates

• Draft Codex Standard for Preserved (Canned) Tomatoes

• Draft Codex Standards for Certain Canned Citrus Fruits

To be considered at Step 4:

• Proposed Draft Codex Standard for Jams, Jellies and Marmalades

• Proposed Draft Codex Standard for Certain Canned Vegetables (including Packing Media for Canned Vegetables)

Other work:

• Methods of Analysis for Processed Fruits and Vegetables

• Priority List for the Standardization of Processed Fruits and Vegetables

Responsible Agency: USDA/AMS; HHS/FDA.

U.S. Participation: Yes.

Codex Committee on Cereals, Pulses, and Legumes

The 26th Session of the Codex Alimentarius Commission adopted the Proposed Draft Standard for Instant Noodles at Step 5, on the recommendation of the Coordinating Committee for Asia, and advanced it to Step 6 for consideration by the Committee on Cereals, Pulses and Legumes by correspondence. The United States, as host government, circulated the Draft Standard for comments and, based on comments received, revised the Draft Standard for final adoption at Step 8. The 33rd Session of the Codex Committee on Food Labeling endorsed the labeling provisions of the Draft Standard. However, at its 37th Session, the Codex Committee on Food Additives and Contaminants (CCFAC) did not endorse the food additive provisions of the Draft Standard, so it was not sent forward to the Commission for final adoption. In addition, the 26th Session of the Codex Committee on Methods of Analysis and Sampling (CCMAS) endorsed all but one of the methods listed in the Draft Standard. The additive and methods sections of the Draft Standard have been re-circulated and revised, and will be sent to the next sessions of CCFAC and CCMAS for endorsement before forwarding the Draft Standard to the Commission for adoption at its 29th Session in July.

Responsible Agency: HHS/FDA; USDA/GIPSA.

U.S. Participation: Yes.

Certain Codex Commodity Committees¹

Several Codex Alimentarius Commodity Committees have adjourned sine die. The following Committees fall into this category:

• Cocoa Products and Chocolate

Responsible Agency: HHS/FDA.

U.S. Participation: Yes.

• Meat Hygiene

Responsible Agency: USDA/FSIS.

U.S. Participation: Yes.

• Natural Mineral Water

Responsible Agency: HHS/FDA.

U.S. Participation: Yes.

• Sugars

Responsible Agency: USDA/ARS; HHS/FDA.

U.S. Participation: Yes.

• Vegetable Proteins

Responsible Agency: USDA/ARS; HHS/FDA.

U.S. Participation: Yes.

Ad Hoc Intergovernmental Task Force on Foods Derived From Biotechnology

The Commission established this task force to develop standards, guidelines, or recommendations, as appropriate, for foods derived from biotechnology or traits introduced into foods by biotechnology, on the basis of scientific evidence, risk analysis and having regard, where appropriate, to other legitimate factors relevant to the health of consumers and the promotion of fair trade practices. The original Task Force, established by the 23rd Session of the Codex Alimentarius Commission for a four year period of time, has completed its work. The Task Force was re-established at the 27th Session of the Commission. The Committee will hold its 6th Session in Japan on November 27-December 1, 2006. The Task Force will discuss the following items:

• Proposed Draft Guidelines for the Conduct of Food Safety Assessment of Foods Derived from Recombinant-DNA Animals

• Proposed Draft Annex to the Guidelines for the Conduct of Food Safety Assessment of Foods Derived from Recombinant DNA Plants regarding food safety of foods derived from recombinant plants modified for nutritional and health benefits

• Discussion paper on Comparative Food Composition Analysis of Staple Foods

• Discussion paper on Sanitary Surveillance after Placing on the Market of Foods Derived from Biotechnology

• Discussion paper on Safety Assessment of Foods Derived from Animals Exposed to Protection against Disease through Gene Therapy or Recombinant-DNA Vaccines

Responsible Agency: USDA; HHS/FDA.

U.S. Participation: Yes.

FAO/WHO Regional Coordinating Committees

The Codex Alimentarius Commission is made up of an Executive Committee, as well as approximately 30 subsidiary bodies. Included in these subsidiary bodies are coordinating committees for groups of countries located in proximity to each other who share common concerns. There are currently six Regional Coordinating Committees:

• Coordinating Committee for Africa.

• Coordinating Committee for Asia.

• Coordinating Committee for Europe.

• Coordinating Committee for Latin America and the Caribbean.

• Coordinating Committee for the Near East.

• Coordinating Committee for North America and the South-West Pacific

The United States participates as an active member of the Coordinating Committee for North America and the South-West Pacific, and is informed of the other coordinating committees through meeting documents, final reports, and representation at meetings. Each regional committee:

• Defines the problems and needs of the region concerning food standards and food control;

• Promotes within the committee contacts for the mutual exchange of information on proposed regulatory initiatives and problems arising from food control and stimulates the strengthening of food control infrastructures;

• Recommends to the Commission the development of world-wide standards for products of interest to the region, including products considered by the committee to have an international market potential in the future; and

• Serves a general coordinating role for the region and performs such other functions as may be entrusted to it by the Commission.

Codex Coordinating Committee for North America and the South-West Pacific

The Coordinating Committee is responsible for defining problems and needs concerning food standards and food control of all Codex member countries of the region. The next meeting will be held in Apia, Samoa on October 10-13, 2006.

Items on the agenda for the next meeting may include:

• Codex working documents of special interest to regional member states.

• Progress Report: Joint FAO/WHO Evaluation of the Codex Alimentarius and other FAO and WHO Work on Food Standards.

• Evaluation and revision of the Strategic Plan for the Coordinating Committee for North America and the Southwest Pacific.

• Evaluation of the effectiveness of the Trust Fund for the participation of developing countries in Codex.

• Election of new regional coordinator.

Responsible Agency: USDA/FSIS.

U.S. Participation: Yes.

Attachment 2: U.S. Codex Alimentarius Officials

Codex Committee Chairpersons

Codex Committee on Food Hygiene

Dr. Karen Hulebak, Chief Scientist, Office of Public Health Science, Food Safety and Inspection Service, U.S. Department of Agriculture, 1400 Independence Avenue, SW., Room 3130, South Building, Washington, DC 20250-3700, Phone: (202) 720-5735, Fax: (202) 720-2980, E-mail: karen.hulebak@fsis.usda.gov

Codex Committee on Processed Fruits and Vegetables

Mr. Terry Bane, Branch Chief, Processed Products Branch, Fruit and Vegetable Programs, AMS, Room 0709, South Building, Stop 9247, 1400 Independence Avenue, SW., Washington, DC 20250-0247, Phone: (202) 720-4693, Fax: (202) 690-1087, E-mail: terry.bane@usda.gov

Codex Committee on Residues of Veterinary Drugs in Foods

Dr. Stephen F. Sundlof, Director, Center for Veterinary Medicine, Food and Drug Administration 7500 Standish Place (HFV-1), Rockville, MD 20855, Phone: (301) 827-2950, Fax: (301) 827-8401, E-mail: ssundlof@cvm.fda.gov

Codex Committee on Cereals, Pulses and Legumes (Adjourned sine die)

Mr. Steven N. Tanner, Director, Technical Services Division, Grain Inspection, Packers & Stockyards Administration, U.S. Department of Agriculture, 10383 N. Executive Hills Boulevard, Kansas City, MO 64153-1394, Phone: (816) 891-0401, Fax: (816) 891-0478, E-mail: Stephen.n.tanner@gipsa.usda.gov

Listing of U.S. Delegates and Alternates Worldwide General Subject Codex Committees

Codex Committee on Residues of Veterinary Drugs in Foods (Host Government—United States)

U.S. Delegate

Dr. Steven D. Vaughn, Director, Office of New Animal Drug Evaluation, Center for Veterinary Medicine, FDA, 7500 Standish Place, Rockville, MD 20855, Phone: (301) 827-1796, Fax: (301) 594-2297, E-mail: SVaughn@cvm.fda.gov

Alternate Delegate

Dr. Alice Thaler, Staff Director, Animal and Egg Production Food Safety Staff, Food Safety and Inspection Service, USDA, 1400 Independence Avenue, SW., Washington, DC 20250, Phone: (202) 690-2683, Fax: (202) 720-8213, E-mail: alice.thaler@fsis.usda.gov

Codex Committee on Food Additives and Contaminants (Host Government—The Netherlands)

U.S. Delegate

Dr. Terry C. Troxell, Director, Office of Plant and Dairy Foods and Beverages, Center for Food Safety and Applied Nutrition, FDA (HFS-300), Harvey W. Wiley Federal Building, 5100 Paint Branch Parkway, College Park, MD 20740-3835, Phone: (301) 436-1700, Fax: (301) 436-2632, E-mail: terry.troxell@fda.hhs.gov

Alternate Delegate

Dr. Dennis M. Keefe, Office of Premarket Approval, Center for Food Safety and Applied Nutrition, FDA (HFS-200), Harvey W. Wiley Federal Building, 5100 Paint Branch Parkway, College Park, MD 20740-3835, Phone: (301) 436-1284, Fax: (301) 436-2972, E-mail: dennis.keefe@fda.hhs.gov

Codex Committee on Pesticide Residues (Host Government—The Netherlands)

U.S. Delegate

Ms. Lois Rossi, Director of Registration Division, Office of Pesticide Programs, U.S. Environmental Protection Agency, Ariel Rios Building 1200 Pennsylvania Avenue, NW., Washington, DC 20460, Phone: (703) 305-5035, Fax: (703) 305-5147, E-mail: rossi.lois@epa.gov

Alternate Delegate

Dr. Robert Epstein, Associate Deputy Administrator, Science and Technology, Agricultural Marketing Service, USDA, P.O. Box 96456, Room 3522S, Mail Stop 0222, 1400 Independence Avenue, SW., Washington, DC 20090, Phone (202) 720-2158, Fax: (202) 720-1484, E-mail: robert.epstein@usda.gov

Codex Committee on Methods of Analysis and Sampling (Host Government—Hungary)

U.S. Delegate

Dr. Gregory Diachenko, Director, Division of Product Manufacture and Use, Office of Premarket Approval, Center for Food Safety and Applied Nutrition (CFSAN), FDA (HFS-300), Harvey W. Wiley Federal Building, 5100 Paint Branch Parkway, College Park, MD 20740-3835, Phone (301) 436-2387, Fax: (301) 436-2364, E-mail: gregory.diachenko@fda.hhs.gov

Alternate Delegate

Mr. Donald C. Kendall, Technical Services Division, Grain Inspection, Packers & Stockyards Administration, USDA, 10383 N. Ambassador Drive, Kansas City, MO 64153-1394, Phone: (816) 891-0463, Fax: (816) 891-0478, E-mail: Donnald.C.Kendall@usda.gov

Codex Committee on Food Import and Export Inspection and Certification Systems (Host Government—Australia)

U.S. Delegate

Dr. Catherine Carnevale, Director, International Activities Staff, Center for Food Safety and Applied Nutrition, FDA (HFS-550), Harvey W. Wiley Federal Building, 5100 Paint Branch Parkway, College Park, MD 20740-3835, Phone: (301) 436-2380, Fax: (301) 436-2618, E-mail: catherine.carnevale@fda.hhs.gov

Alternate Delegate

Ms. Karen Stuck, Assistant Administrator, Office of International Affairs, Food Safety and Inspection Service, USDA, Room 2137, South Building, 1400 Independence Avenue, SW., Washington, DC 20250-3700, Phone: (202) 720-3470, Fax: (202) 720-7990, E-mail: karen.stuck@fsis.usda.gov

Codex Committee on General Principles (Host Government—France)

U.S. Delegate

Note: A member of the Policy Steering Committee heads the delegation to meetings of the General Principles Committee.

Codex Committee on Food Labelling (Host Government—Canada)

U.S. Delegate

Dr. Barbara O. Schneeman, Director, Office of Nutritional Products, Labelling and Dietary Supplements, Center for Food Safety and Applied Nutrition, FDA 5100 Paint Branch Parkway (HFS-800), College Park, MD 20740, Phone: (301) 436-2373, Fax: (301) 436-2636, E-mail: barbara.schneeman@fda.hhs.gov

Alternate Delegate

Ms. Danielle Schor, Chief of Staff, Office of the Administrator, Food Safety and Inspection Service, USDA 1400 Independence Avenue, SW., Washington, DC 20250-1400, Phone: (202) 720-6618, Fax: (202) 720-7771, E-mail: danielle.schor@fsis.usda.gov

Codex Committee on Food Hygiene (Host Government—United States)

U.S. Delegate

Dr. Robert L. Buchanan, Lead Scientist, Food Safety Initiative, Center for Food Safety and Applied Nutrition, FDA (HFS-006), Harvey W. Wiley Federal Building, 5100 Paint Branch Parkway, College Park, MD 20740-3835, Phone: (301) 436-2369, Fax: (301) 436-2360, E-mail: robert.buchanan@fda.hhs.gov

Alternate Delegates

Dr. Daniel Engeljohn, Deputy Assistant Administrator, Office of Policy, Program, and Employee Development, Food Safety and Inspection Service, USDA, Room 3149 South Building, 1400 Independence Avenue, SW., Washington, DC 20250-3700, Phone: (202) 205-0495, Fax: (202) 401-1760, E-mail: daniel.engeljohn@fsis.usda.gov

Dr. Rebecca Buckner, Consumer Safety Officer, Center for Food Safety and Applied Nutrition, FDA, Room 3B-0033 Harvey Wiley Building, 5100 Paint Branch Parkway, College Park, MD 10740, Phone: (301) 436-1486, Fax: (301) 436-2632, E-mail: rebecca.buckner@fda.hhs.gov

Codex Committee on Nutrition and Food for Special Dietary Uses (Host Government—Germany)

U.S. Delegate

Dr. Barbara O. Schneeman, Director, Office of Nutritional Products, Labeling and Dietary Supplements, Center for Food Safety and Applied Nutrition, FDA, 5100 Paint Branch Highway (HFS-800), College Park, MD 20740, Tel: (301) 436-2373, Fax: (301) 436-2636, E-mail: barbara.schneeman@fda.hhs.gov

Alternate Delegate

Ms. Patricia McKinney, Senior Program Analyst, Office of Analysis, Nutrition Service, Food and Nutrition Service, USDA, 3101 Park Center Drive, Room 1014, Alexandria, VA 22302, Tel: (703) 305-2126, Fax: (703) 305-2576, E-mail: pat.mckinney@fns.usda.gov

Worldwide Commodity Codex Committees; Codex Committee on Fresh Fruits and Vegetables (Host Government—Mexico)

U.S. Delegate

Mr. Dorian LaFond, International Standards Coordinator, Fruit and Vegetables Program, Agricultural Marketing Service, USDA, Room 2086, South Building, 1400 Independence Avenue, SW., Washington, DC 20250, Phone (202) 690-4944, Fax: (202) 720-4722, E-mail: dorian.lafond@usda.gov

Alternate Delegate

Vacant.

Codex Committee on Fish and Fishery Products (Host Government—Norway)

U.S. Delegate

Mr. Philip C. Spiller, Director, Office of Seafood, Center for Food Safety and Applied Nutrition, FDA (HFS-400), Harvey W. Wiley Federal Building, 5100 Paint Branch Parkway, College Park, MD 20740-3835, Phone: (301) 436-2300, Fax: (301) 436-2599, E-mail: philip.spiller@fda.hhs.gov

Alternate Delegate

Mr. Richard V. Cano, Acting Director, National Seafood Inspection Program, NOAA, U.S. Department of Commerce, 1315 East-West Highway, Silver Spring, MD 20910, Phone: (301) 713-2355, Fax: (301) 713-1081, E-mail: richard.cano@noaa.gov

Codex Committee on Cereals, Pulses and Legumes (Host Government—United States)

U.S. Delegate

Dr. Henry Kim, Supervisory Chemist, Division of Plant Product Safety, Office of Plant and Dairy Foods, Center for Food Safety and Applied Nutrition, FDA, 5100 Paint Branch Parkway, College Park, MD 20740, Phone: (301) 436-2023, Fax: (301) 436-2651, E-mail: henry.kim@fda.hhs.gov

Alternate Delegate

Mr. David Shipman, Deputy Administrator, Federal Grain Inspection Division, Grain Inspection, Packers & Stockyards Administration, USDA, Room 1661, South Building, 1400 Independence Avenue, SW., Washington, DC 20250, Phone: (202) 720-9170, Fax: (202) 205-9237, E-mail: dshipman@gipsadc.usda.gov

Codex Committee on Milk and Milk Products (Host Government—New Zealand)

U.S. Delegate

Mr. Duane Spomer, Food Defense Advisor, Agricultural Marketing Service, USDA, Room 2750, South Building, 1400 Independence Avenue, SW., Washington, DC 20250, Phone: (202) 720-1861, Fax: (202) 205-5772, E-mail: duane.spomer@usda.gov

Alternate Delegate

John F. Sheehan, Director, Division of Dairy and Egg Safety, Office of Plant and Dairy Foods and Beverages, Center for Food Safety and Applied Nutrition, FDA (HFS-306), Harvey W. Wiley Federal Building, 5100 Paint Branch Parkway, College Park, MD 20740, Phone: (301) 436-1488, Fax: (301) 436-2632, E-mail: john.sheehan@fda.hhs.gov

Codex Committee on Fats and Oils (Host Government—United Kingdom)

U.S. Delegate

Dr. Dennis M. Keefe, Office of Food Additive Safety, Center for Food Safety and Applied Nutrition, FDA (HFS-200), Harvey W. Wiley Federal Building, 5100 Paint Branch Parkway, College Park, MD 20740-3835, Phone: (301) 436-1284, Fax: (301) 436-2972, E-mail: dennis.keefe@fda.hhs.gov

Alternate Delegate

Ms. Kathleen Warner, Agricultural Research Service, USDA, 1815 N. University Street, Peoria, IL 61604, Phone (309) 681-6584, Fax: (309) 681-6668, E-mail: warnerk@ncaur.usda.gov

Codex Committee on Cocoa Products and Chocolate (Host Government—Switzerland)

U.S. Delegate

Dr. Michelle Smith, Food Technologist, Office of Plant and Dairy Foods and Beverages, Center for Food Safety and Applied Nutrition, FDA (HFS-306), Harvey W. Wiley Federal Building, 5100 Paint Branch Parkway, College Park, MD 20740-3835, Phone: (301) 436-2024, Fax: (301) 436-2651, E-mail: michelle.smith@fda.hhs.gov

Alternate Delegate

Vacant.

Codex Committee on Sugars (Host Government—United Kingdom)

U.S. Delegate

Dr. Thomas L. Tew, Research Geneticist, Sugarcane Research Unit, Agricultural Research, USDA, 5883 USDA Road, Houma, LA 70360, Phone: (504) 872-5042, Fax: (504) 868-8369, E-mail: ttew@nola.srrc.usda.gov

Alternate Delegate

Mr. Martin Stutsman, Office of Plant and Dairy Foods and Beverages, Center for Food Safety and Applied Nutrition, FDA (HFS-306), Harvey W. Wiley Federal Building, 5100 Paint Branch Parkway, College Park, MD 20740-3835, Phone: (301) 436-1642, Fax: (301) 436-2651, E-mail: martin.stutsman@fda.hhs.gov

Codex Committee on Processed Fruits and Vegetables (Host Government—United States)

U.S. Delegate

Mr. Dorian LaFond, International Standards Coordinator, Fruit and Vegetable Division, Agricultural Marketing Service, USDA, Room 2086, South Building, 1400 Independence Avenue, SW., Washington, DC 20250, Phone: (202) 690-4944, Fax: (202) 720-0016, E-mail: dorian.lafond@usda.gov

Alternate Delegate

Mr. Paul South, Division of Plant Product Safety, Office of Plant and Dairy Foods, Center for Food Safety and Applied Nutrition, FDA, 5100 Paint Branch Parkway, College Park, MD 20740, Phone: (301) 436-1640, Fax: (301) 436-2561, E-mail: paul.south@fda.hhs.gov

Codex Committee on Vegetable Proteins (Host Government—Canada)

U.S. Delegate

Dr. Wilda H. Martinez, Area Director, ARS North Atlantic Area, Agricultural Research Service, USDA, 600 E. Mermaid Lane, Wyndmoor, PA 19038, Phone: (215) 233-6593, Fax: (215) 233-6719, E-mail: wmartinez@ars.usda.gov

Alternate Delegate

Dr. Jeanne Rader , Director, Division of Research and Applied Technology, Office of Nutritional Products, Labeling and Dietary Supplements, Center for Food Safety and Applied Nutrition, FDA, Harvey W. Wiley Federal Building, 5100 Paint Branch Parkway, College Park, MD 20740-3835, Phone: (301) 436-2377, Fax: (301) 436-2636, E-mail: jeanne.rader@fda.hhs.gov

Codex Committee on Meat Hygiene (Host Government—New Zealand)

U.S. Delegate

Dr. Perfecto Santiago, Deputy Assistant Administrator, Office of Food Security and Emergency Preparedness, Room 3130, South Building, Food Safety and Inspection Service, USDA, 1400 Independence Avenue, SW., Washington, DC 20250, Phone: (202) 205-0452, Fax: (202) 690-5634, E-mail: perfecto.santiago@fsis.usda.gov

Alternate Delegate

Dr. William O. James, Deputy Assistant Administrator, Office of International Affairs, Food Safety and Inspection Service, USDA, Room 3143, South Building, Washington, DC 20250-3700, Phone: (202) 720-5362, Fax: (202) 690-3856, E-mail: william.james@fsis.usda.gov

Codex Committee on Natural Mineral Waters (Host Government—Switzerland)

U.S. Delegate

Dr. Terry C. Troxell, Director, Office of Plant and Dairy Foods and Beverages, Center for Food Safety & Applied Nutrition, FDA (HFS-305), Harvey W. Wiley Federal Building 5100 Paint Branch Parkway, College Park, MD 20740-3835, Phone: (301) 436-1700, Fax: (301) 436-2632, E-mail: terry.troxell@fda.hhs.gov

Alternate Delegate

Ms. Shellee Anderson, Division of Programs and Enforcement Policy, Center for Food Safety and Applied Nutrition, FDA (HFS-306), Harvey W. Wiley Federal Building 5100 Paint Branch Parkway, College Park, MD 20740-3835, Phone: (301) 436-1491, Fax: (301) 436-2632, E-mail: shellee.anderson@fda.hhs.gov

Ad Hoc Intergovernmental Task Forces; Ad Hoc Intergovernmental Task Force on Foods Derived From Modern Biotechnology (Host Government—Japan)

U.S. Delegate

Vacant

Alternate Delegate

Dr. Eric Flamm, Senior Advisor, Office of the Commissioner, Food and Drug Administration, Room 1561 Parklawn Building, Rockville, MD 20857, Phone: (301) 827-0591, Fax: (301) 827-4774, E-mail: EFLAMM@OC.FDA.GOV

There are six regional coordinating committees:

Coordinating Committee for Africa

Coordinating Committee for Asia

Coordinating Committee for Europe

Coordinating Committee for Latin America and the Caribbean

Coordinating Committee for the Near East

Coordinating Committee for North American and the South-West Pacific

Contact:

Paulo Almeida, Associate Manager for Codex, U.S. Codex Office, Food Safety and Inspection Service, Room 4861, South Building 1400 Independence Avenue, SW., Washington, DC 20250-3700, Phone (202) 205-7760, Fax (202) 720-3157, E-mail: paulo.almeida@fsis.usda.gov

[FR Doc. 06-5012 Filed 5-31-06; 8:45 am]

BILLING CODE 3410-DM-P